DEPARTMENT OF HEALTH AND HUMAN SERVICES

National Institutes of Health

National Heart, Lung, and Blood Institute; Notice of Meeting

Pursuant to section 10(a) of the Federal Advisory Committee Act, as amended, notice is hereby given of a meeting of the Sleep Disorders Research Advisory Board.

The meeting will be open to the public, with attendance limited to space available. Individuals who plan to attend and need special assistance, such as sign language interpretation or other reasonable accommodations, should notify the Contact Person listed below in advance of the meeting.

Name of Committee: Sleep Disorders Research Advisory Board.

Date: August 1-2, 2019.

Time: August 1, 2019, 1:00 p.m. to 5:00 p.m.

Agenda: Evaluate sleep and circadian research activities; discussion of NIH Sleep Disorders Research Plan Revision.

Place: National Institutes of Health, John Edward Porter Neuroscience Research Center, Building 35A, 35 Convent Drive, Room 640, Bethesda, MD 20892.

Telephone Access: 1-650-479-3208, Access Code: 625 290 665.

Virtual Access: WebEx Link: https://nih.webex.com/nih/onstage/g.php?MTID=e965701a2f7ee5d98c821cd19e6d9f4b3, Event number: 625 290 665, Event password: sdrab2019.

Time: August 2, 2019, 8:30 a.m. to 3:00 p.m.

Agenda: Coordination of inter-agency sleep research activities; discussion of NIH Sleep Disorders Research Plan Revision.

Place: National Institutes of Health, John Edward Porter Neuroscience Research Center Building. Building 35A, 35 Convent Drive, Room 640, Bethesda, MD 20892.

Telephone Access: 1-650-479-3208, Access Code: 628 903 414.

Virtual Access: WebEx Link: https://nih.webex.com/nih/onstage/g.php?MTID=e0b5ce5a0625639571d560f8a95cceda7, Event number: 628 903 414, Event password: sdrab2019.

Contact Person: Michael J. Twery, Ph.D., Executive Secretary, Director, National Center on Sleep Disorders Research, National Institutes of Health, National Heart, Lung, and Blood Institute, Division of Lung Diseases, 6701 Rockledge Drive, Suite 10042, Bethesda, MD 20892, 301-435-0199, twerym@nhlbi.nih.gov.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

(Catalogue of Federal Domestic Assistance Program Nos. 93.233, National Center for Sleep Disorders Research; 93.837, Heart and Vascular Diseases Research; 93.838, Lung Diseases Research; 93.839, Blood Diseases and Resources Research, National Institutes of Health, HHS)

Dated: May 15, 2019.
Ronald J. Livingston, Jr.,
Program Analyst, Office of Federal Advisory Committee Policy.

[FR Doc. 2019-10495 Filed 5-20-19; 8:45 am]

BILLING CODE 4140-01-P